DEPARTMENT OF HOMELAND SECURITY

Federal Emergency Management Agency

[Docket ID: FEMA-2022-0002]

Changes in Flood Hazard Determinations

AGENCY: Federal Emergency Management Agency, Department of Homeland Security.

ACTION: Notice; correction.

SUMMARY: On March 1, 2022, FEMA published in the Federal Register a notice of changes in flood hazard determinations. This document provides a correction to information provided in a table.

DATES: This correction is effective July 5, 2022.

ADDRESSES: Each Letter of Map Revision (LOMR) is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: In FR Doc. 2022-04187, beginning on page 11458 in the Federal Register of Tuesday, March 1, 2022, an error occurred in the middle of page 11462, which incorrectly listed Will County, Illinois, as a county in Idaho. Accordingly, the information for Will County, Illinois, is corrected to read as follows:

State and county | Location and case No. | Chief executive officer of community | Community map repository | Date of modification | Community No.
Illinois: Will (FEMA Docket No.: B-2158). | Village of Bolingbrook (21-05-0627P). | The Honorable Mary Alexander-Basta, Mayor, Village of Bolingbrook, 375 West Briarcliff Road, Bolingbrook, IL 60440. | Village Hall, 375 West Briarcliff Road, Bolingbrook, IL 60440. | Oct. 28, 2021 | 170812

Michael M. Grimm,
Assistant Administrator for Risk Management, Department of Homeland Security, Federal Emergency Management Agency.

[FR Doc. 2022-14266 Filed 7-1-22; 8:45 am]

BILLING CODE 9111-23-P